DEPARTMENT OF HEALTH AND HUMAN SERVICES

National Institutes of Health

National Cancer Institute; Amended Notice of Meeting

Notice is hereby given of a change in the meeting of the National Cancer Institute Special Emphasis Panel, October 17, 2013, 4:00 p.m. to October 18, 2013, 06:00 p.m., Bethesda North Marriott Hotel & Conference Center, 5701 Marinelli Road, Bethesda, MD, 20852 which was published in the Federal Register on August 16, 2013, 78 FR 50065.

The meeting notice is amended to change the start time from 4:00 p.m. to 5:00 p.m. The meeting is closed to the public.

Dated: September 17, 2013.
Melanie J. Gray,
Program Analyst, Office of Federal Advisory Committee Policy.

[FR Doc. 2013-22982 Filed 9-20-13; 8:45 am]

BILLING CODE 4140-01-P